DEPARTMENT OF AGRICULTURE

Animal and Plant Health Inspection Service

[Docket No. APHIS-2015-0103]

General Conference Committee of the National Poultry Improvement Plan; Solicitation for Membership; Correction

AGENCY: Animal and Plant Health Inspection Service, USDA.

ACTION: Notice; correction.

SUMMARY: We are correcting an error in a notice announcing that the Secretary of Agriculture is soliciting nominations for the election of members and alternates to the General Conference Committee of the National Poultry Improvement Plan. The notice was published in the Federal Register on March 1, 2016.

FOR FURTHER INFORMATION CONTACT: Dr. Denise L. Brinson, Senior Coordinator, National Poultry Improvement Plan, VS, APHIS, 1506 Klondike Road, Suite 101, Conyers, GA 30094-5173; phone (770) 922-3496; fax (770) 922-3498; email denise.l.brinson@aphis.usda.gov.

SUPPLEMENTARY INFORMATION: In a notice ¹ published in the Federal Register on March 1, 2016 (81 FR 10568, Docket No. APHIS-2015-0103), we announced that the Secretary of Agriculture is soliciting nominations for the election of members and alternates to the General Conference Committee (the Committee) of the National Poultry Improvement Plan.

¹ To view the notice and related documents, go to http://www.regulations.gov/#!docketDetail;D=APHIS-2015-0103.

In the notice, we stated that the terms will expire for three of the current regional members of the Committee as well as the member-at-large in July 2016. However, the term for the member-at-large does not expire until July 2018. The membership solicitation should have omitted the member-at-large.

Done in Washington, DC, this 9th day of May 2016.
Michael C. Gregoire,
Acting Administrator, Animal and Plant Health Inspection Service.

[FR Doc. 2016-11314 Filed 5-12-16; 8:45 am]

BILLING CODE 3410-34-P